FEDERAL COMMUNICATIONS COMMISSION

47 CFR Part 73

[MB Docket No. 11-38; RM-11621; DA 13-9]

Radio Broadcasting Services; Hebbronville, TX

AGENCY: Federal Communications Commission.

ACTION: Final rule.

SUMMARY: The Audio Division, at the request of Charles Crawford, substitutes Channel 282A for vacant Channel 232A at Hebbronville, Texas. The purpose of the proposed channel substitution at Hebbronville is to accommodate the hybrid application, File No. BNPH-20070502ADP, which requests the substitution of Channel 232A for Channel 282A at Benavides, Texas, and modification of the new FM station. Channel 282A can be allotted to Hebbronville consistent with the minimum distance separation requirements of the Rules with a site restriction 11 kilometers (6.8 miles) northwest of the community. The reference coordinates for Channel 282A are 27-23-18 NL and 98-44-26 WL. Channel 282A at Hebbronville is located 320 kilometers from the Mexican Border. Although Mexican concurrence has been requested, notification has not been received. If a construction permit for Channel 282A at Hebbronville, Texas is granted prior to receipt of formal concurrence by the Mexican government, the authorization will include the following condition: “Operation with the facilities specified herein for Hebbronville, Texas, is subject to modification, suspension, or termination without right to hearing, if found by the Commission to be necessary in order to conform to the Mexico-United States FM Broadcast Agreement, or if specifically objected to by the Government of Mexico.”

DATES: Effective February 18, 2013.

ADDRESSES: Secretary, Federal Communications Commission, 445 12th, SW., Washington, DC 20554.

FOR FURTHER INFORMATION CONTACT: Rolanda F. Smith, Media Bureau, (202) 418-2700.

SUPPLEMENTARY INFORMATION: This is a synopsis of the Commission's Report and Order, adopted January 3, 2013, and released January 4, 2013. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of this Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by removing Channel 232A at Hebbronville, and by adding Channel 282A at Hebbronville.

[FR Doc. 2013-01046 Filed 1-17-13; 8:45 am]

BILLING CODE 6712-01-P